ENVIRONMENTAL PROTECTION AGENCY

40 CFR Part 52

[IN 140-4b; FRL-7658-8]

Approval and Promulgation of Implementation Plans; IN

AGENCY: Environmental Protection Agency (EPA).

ACTION: Proposed rule.

SUMMARY: The Environmental Protection Agency is proposing to approve rules submitted by the State of Indiana as revisions to its State Implementation Plan (SIP) for the prevention of significant deterioration (PSD) air quality construction permit program.

In the rules section of this Federal Register, EPA is approving the SIP revision as a direct final rule without prior proposal, because EPA views this as a noncontroversial revision amendment and anticipate no adverse comments. A detailed rationale for the approval is set forth in the direct final rule. If EPA receives no adverse comments in response to this proposed rule, EPA will take no further action on this proposed rule. If EPA receives adverse written comments, the direct final rule will be withdrawn and all public comments received will be addressed in a subsequent final rule based on this proposed rule. EPA will not institute a second comment period on this action. Any parties interested in commenting on this action should do so at this time.

DATES: Comments must be received on or before June 21, 2004.

Comments may be submitted by mail, electronically, or by hand delivery/courier. Please follow the detailed instructions for submitting comments described in the ADDRESSES section and Part(I)(B) of the SUPPLEMENTARY INFORMATION section of the related direct final rule which is published in the Rules section of this Federal Register.

ADDRESSES: Comments should be sent to: Pamela Blakley, Acting Chief, Air Programs Branch (AR-18J), EPA Region 5, 77 West Jackson Boulevard, Chicago, Illinois 60604-3590, blakley.pamela@epa.gov.

FOR FURTHER INFORMATION CONTACT: Ethan Chatfield, Environmental Engineer, Air Permits Section, Air Programs Branch (AR-18J), EPA Region 5, 77 West Jackson Boulevard, Chicago, Illinois 60604, (312) 886-5112, chatfield.ethan@epa.gov.

SUPPLEMENTARY INFORMATION: For additional information, see the Direct Final notice which is located in the Rules section of this Federal Register. Copies of the request and the EPA's analysis are available for inspection at the above address. (Please telephone Ethan Chatfield at (312) 886-5112 before visiting the Region 5 Office.)

Dated: April 26, 2004.
Bharat Mathur,
Acting Regional Administrator, Region 5.

[FR Doc. 04-11338 Filed 5-19-04; 8:45 am]

BILLING CODE 6560-50-P